DEPARTMENT OF TRANSPORTATION

Great Lakes St. Lawrence Seaway Development Corporation

Great Lakes St. Lawrence Seaway Development Corporation Advisory Board-Notice of Public Meetings; Correction

AGENCY: Great Lakes St. Lawrence Seaway Development Corporation, DOT.

ACTION: Notice; correction.

SUMMARY: The Great Lakes St. Lawrence Seaway Development Corporation (GLS) published a document in the Federal Register on December 19, 2022, providing notice of public meeting dates for the GLS Advisory Board. The date and location for the fourth meeting has changed.

FOR FURTHER INFORMATION CONTACT: Kevin O'Malley, Strategic Advisor for Financial and Resources Management, Great Lakes St. Lawrence Seaway Development Corporation, 1200 New Jersey Avenue SE, Suite W62-300, Washington, DC 20590; 202-366-0091.

SUPPLEMENTARY INFORMATION:

Correction

In the Federal Register of December 19, 2022, in FR Doc. 2022-27369, on page 77674, the following corrections are made:

1. In the second column, under the Dates caption, correct the fourth bullet and its sub bullets to read:

• Wednesday, November 29, 2023, from 2 p.m.-4 p.m. EST

○ Requests to attend the meeting must be received by November 24, 2023.

○ Requests for accommodations to a disability must be received by November 24, 2023.

○ If you wish to speak during the meeting, you must submit a written copy of your remarks to GLS by November 24, 2023.

○ Requests to submit written materials to be reviewed during the meeting must be received no later than November 24, 2023.

2. In the third column, under the Address caption, after the first sentence, add the following:

“The November 29, 2023, meeting will take place in-person in the Montreal A room at the Marriott Montreal Chateau Champlain hotel, 1050 Rue de la Gauchetiere West, Montreal, Quebec, Canada.”

3. In the third column, under the Supplementary Information caption, correct the fourth listed date to read:

“Wednesday, November 29, 2023, from 2 p.m.-4 p.m. EST”

Dated: August 28, 2023.
Carrie Lavigne,
Chief Counsel.

[FR Doc. 2023-18876 Filed 8-30-23; 8:45 am]

BILLING CODE 4910-61-P